FEDERAL COMMUNICATIONS COMMISSION

47 CFR Part 73

[DA 04-143, MM Docket No. 01-248, RM-10241 and RM-10342]

Radio Broadcasting Services; Big Sur, Chualar, and Dos Palos, CA

AGENCY: Federal Communications Commission.

ACTION: Final rule.

SUMMARY: This document grants a counterproposal to allot Channel 240A to Big Sur, California, as its first local aural service, at reference coordinates 36-15-28 and 121-49-28. The document also denies a rulemaking petition to reallot and change the community of license for Station KSKD(FM), Channel 240A, from Dos Palos to Chualar, California, because this would not result in a preferential arrangement of allotments. See 66 FR 51361, published October 9, 2001.

DATES: Effective March 22, 2004.

FOR FURTHER INFORMATION CONTACT: Andrew J. Rhodes, Media Bureau, (202) 418-2180.

SUPPLEMENTARY INFORMATION: This is a synopsis of the Commission's Report and Order, MM Docket 01-248, adopted February 4, 2004, and released February 6, 2004. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM allotments under California, is amended by adding Big Sur, Channel 240A.

Federal Communications Commission.
John A. Karousos,
Assistant Chief, Audio Division, Media Bureau.

[FR Doc. 04-3968 Filed 2-23-04; 8:45 am]

BILLING CODE 6712-01-P